DEPARTMENT OF JUSTICE

Notice of Lodging of Proposed Consent Decree Amendment Under the Comprehensive Environmental Response, Compensation, and Liability Act

On November 5, 2013, the Department of Justice lodged a proposed consent decree amendment with the United States District Court for the District of South Carolina in the lawsuit entitled United States of America v. AILS, LLC, as successor-in-interest to ABCO Industries, Ltd., et al., Civil Action No. 6:92-cv-0153-20, regarding the remedial action at the Medley Farm Superfund Site located in Gaffney, Cherokee County, South Carolina (“Site”).

In 1992, the Court entered a consent decree in the matter of United States v. ABCO Industries, Ltd., et al., (“1992 Consent Decree”) under which defendants agreed to perform the remedial action at the Site consistent with the Environmental Protection Agency's (“EPA's”) 1991 Record of Decision. The 1992 Consent Decree required defendants to, among other things, utilize a groundwater pump-and-treat system to address contaminated groundwater. The effectiveness of this system declined through time. In 2012, EPA issued an Amended Record of Decision, amending the groundwater component of the remedy to employ enhanced reductive dechlorination as an active treatment process to address groundwater contamination, and selecting monitored natural attenuation as the contingency remedy. The proposed consent decree amendment includes the revised groundwater cleanup remedy and contingency remedy of the 2012 Amended Record of Decision and addresses other changes such as to the names of defendants. The consent decree amendment was signed by the following defendants: AILS, LLC, as successor-in-interest to ABCO Industries, Ltd.; BASF Corporation; Colonial Heights Packaging Inc.; Ethox Chemicals, LLC; Expert Management Inc. on behalf of National Starch and Chemical Company; Henkel Corporation, as successor-in-interest to Tanner Chemicals, Inc., f/k/a/Evode-Tanner; and Milliken & Company.

The publication of this notice opens a period for public comment on the consent decree amendment. Comments should be addressed to the Assistant Attorney General, Environment and Natural Resources Division, and should refer to United States v. AILS, LLC as successor-in-interest to ABCO Industries, Ltd., et al., D.J. Ref. No. 90-11-3-104A. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree amendment may be examined and downloaded at this Justice Department Web site: http://www.usdoj.gov/enrd/Consent_Decrees.html. We will provide a paper copy of the consent decree amendment upon written request and payment of reproduction costs. Please mail your request and payment to: Consent Decree Library, U.S. DOJ—ENRD, P.O. Box 7611, Washington, DC 20044-7611.

Please enclose a check or money order for $75.50 (25 cents per page reproduction cost) payable to the United States Treasury. For a paper copy without the appendices, the cost is $8.75.

Henry S. Friedman,
Assistant Section Chief, Environmental Enforcement Section, Environment and Natural Resources Division.

[FR Doc. 2013-27050 Filed 11-12-13; 8:45 am]

BILLING CODE 4410-15-P